ENVIRONMENTAL PROTECTION AGENCY

[FRL-12404-02-OA]

Animal Agriculture and Water Quality Subcommittee (AAWQ), Subcommittee of the Farm, Ranch, and Rural Communities Committee (FRRCC) Notice of Public Meeting; Extension of Public Comment Period

AGENCY: Environmental Protection Agency (EPA).

ACTION: Notice of meeting; extension of public comment period.

SUMMARY: This notice is to extend the deadline for attendees to submit their public comments. Pursuant to the Federal Advisory Committee Act (FACA), notice is hereby given that the next meeting of the Animal Agriculture and Water Quality Subcommittee, a subcommittee of the Farm, Ranch, and Rural Communities Advisory Committee (FRRCC) will be held virtually on December 6, 2024. The goal of the AAWQ subcommittee is to provide recommendations that will inform the Agency's decisions regarding how to improve the implementation of the Clean Water Act (CWA) National Pollutant Discharge Elimination System (NPDES) Concentrated Animal Feeding Operation (CAFO) permitting program.

DATES: The public meeting of the AAWQ will be held virtually only on Friday, December 6, 2024, from approximately 8:30 a.m. to 5:30 p.m. (EST). The public comment period for the notice published November 22, 2024 at 89 FR 92681 is extended to Thursday December 5, 2024, at 12 p.m. (EST) to AAWQ@epa.gov.

ADDRESSES: The meeting will take place virtually only. To register to attend virtually and receive information on how to listen to the meeting and to provide comments, please visit: www.epa.gov/faca/frrcc-0. Virtual attendance will be via Zoom. The link to register for the meeting can be found on the FRRCC web page, www.epa.gov/faca/frrcc-0. To provide public comments, attendees must submit request by Thursday, December 5, 2024, at 12 p.m. NOON (EST) to the AAWQ@epa.gov.

FOR FURTHER INFORMATION CONTACT: Dr. Venus Welch-White, Designated Federal Officer (DFO), at AAWQ@epa.gov or telephone. (202) 564-0595. General information regarding the FRRCC and AAWQ can be found on the EPA website at: www.epa.gov/faca/frrcc.

SUPPLEMENTARY INFORMATION: Meetings of the AAWQ are open to the public. An agenda will be posted on AAWQ's website at https://www.epa.gov/faca/frrcc-0. Due to unforeseen administrative circumstances, EPA is announcing this meeting with less than 15 calendar days' notice.

Access and Accommodation: Requests for accessibility and/or accommodations for individuals with disabilities should be directed to AAWQ@epa.gov. The deadline to make these request is Tuesday, December 3, 2024 at 11:59 p.m. (EST).

Venus Welch-White,
Acting Deputy Director, EPA Office of Agriculture and Rural Affairs.

[FR Doc. 2024-28218 Filed 11-29-24; 8:45 am]

BILLING CODE 6560-50-P